DEPARTMENT OF HEALTH AND HUMAN SERVICES

Health Resources and Services Administration

Council on Graduate Medical Education, Notice for Request for Nominations

SUMMARY: The Health Resources and Services Administration (HRSA) is requesting nominations to fill vacancies on the Council on Graduate Medical Education (COGME). The COGME is authorized by 42 42 U.S.C. 294o, section 762 of the Public Health Service (PHS) Act, as amended. The Advisory Committee is governed by the Federal Advisory Act, Public Law (Pub. L.) 92-463, as amended (5 U.S.C. Appendix 2) which sets forth standards for the formation and use of advisory committees.

DATES: The agency will receive nominations on a continuous basis.

ADDRESSES: All nominations should be submitted to Regina Wilson, Advisory Council Operations, Bureau of Health Workforce, HRSA, 11w45c, 5600 Fishers Lane, Rockville, Maryland 20857. Mail delivery should be addressed to Regina Wilson, Advisory Council Operations, Bureau of Health Workforce, HRSA, at the above address, or via email to: RWilson@hrsa.gov.

FOR FURTHER INFORMATION CONTACT: Joan Weiss, Ph.D., RN, CRNP, FAAN, Designated Federal Official, COGME at 301-443-0430 or email at jweiss@hrsa.gov. A copy of the current committee membership, charter and reports can be obtained by accessing the http://www.hrsa.gov/advisorycommittees/bhpradvisory/COGME/index.html

SUPPLEMENTARY INFORMATION: The COGME provides advice and makes policy recommendations to the Secretary of the U.S. Department of Health and Human Services (Secretary) and ranking members of the Senate Committee on Health, Education, Labor and Pensions, and the House of Representatives Committee on Energy and Commerce on matters under section 762 of part E of title VII concerning the supply and distribution of physicians in the United States, physician workforce trends, training issues and financing policies. Meetings are held twice a year. The COGME prepares reports concerning the activities under section 762 of part E of title VII. Reports are submitted to the Secretary and ranking members of the Senate Committee on Health, Education, Labor and Pensions, and the House of Representatives Committee on Energy and Commerce.

Specifically, HRSA is requesting nominations for voting members of the COGME representing: Primary care physicians, national and specialty physician organizations, international medical graduates, medical student and house staff associations, schools of medicine, schools of osteopathic medicine, public and private teaching hospitals, health insurers, business, and labor. Among these nominations, students, residents, and/or fellows from these programs are encouraged to apply.

The Department of Health and Human Services (HHS) will consider nominations of all qualified individuals with the areas of subject matter expertise noted above. Individuals may nominate themselves or other individuals, and professional associations and organizations may nominate one or more qualified persons for membership. Nominations shall state that the nominee is willing to serve as a member of the COGME and appears to have no conflict of interest that would preclude the COGME membership. Potential candidates will be asked to provide detailed information concerning financial interests, consultancies, research grants, and/or contracts that might be affected by recommendations of the COGME to permit evaluation of possible sources of conflicts of interest.

A nomination package should include the following information for each nominee:

(1) A letter of nomination from an employer, a colleague, or a professional organization stating the name, affiliation, and contact information for the nominee, the basis for the nomination (i.e., what specific attributes, perspectives, and/or skills does the individual possess that would benefit the workings of COGME, and the nominee's field(s) of expertise); (2) a letter of self-interest stating the reasons the nominee would like to serve on the Council, (3) a biographical sketch of the nominee and a copy of his/her curriculum vitae; and (4) the name, address, daytime telephone number, and email address at which the nominator can be contacted. Nominations will be considered as vacancies occur on the COGME. Nominations should be updated and resubmitted every 3 years to continue to be considered for committee vacancies.

HHS strives to ensure that the membership of HHS federal advisory committees is balanced in terms of points of view represented and the committee's function. Every effort is made to ensure that the views of women, all ethnic and racial groups, and people with disabilities are represented on HHS federal advisory committees. The Department also encourages geographic diversity in the composition of the committee. The Department encourages nominations of qualified candidates from all groups and locations. Appointment to the COGME shall be made without discrimination on the basis of age, race, ethnicity, gender, sexual orientation, disability, and cultural, religious, or socioeconomic status.

Jackie Painter,
Director, Division of the Executive Secretariat.

[FR Doc. 2015-29548 Filed 11-18-15; 8:45 am]

BILLING CODE 4165-15-P